DEPARTMENT OF TRANSPORTATION

Surface Transportation Board

[STB Finance Docket No. 34500]

Motive Rail, Inc. d/b/a Missouri North Central Railroad—Lease Exemption—the City of Chillicothe, MO

Motive Rail, Inc. d/b/a Missouri North Central Railroad (MNCR), a noncarrier, has filed a verified notice of exemption under 49 CFR 1150.31 to lease from the City of Chillicothe, MO, and operate 37.3 miles of rail line located between milepost 188.7 at Brunswick, MO, and milepost 226.0 at Chillicothe. MNCR certifies that its projected revenues as a result of this transaction will not result in MNCR becoming a Class II or Class I rail carrier, and further certifies that its projected annual revenues will not exceed $5 million.

MNCR indicates that it expected to consummate the transaction on or shortly after April 30, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34500, must be filed with the Surface Transportation Board, 1925 K Street, NW., Washington, DC 20423-0001. In addition, one copy of each pleading must be served on Karl Morell, Suite 225, 1455 F St., NW., Washington, DC 20005.

Board decisions and notices are available on our website at http://www.stb.dot.gov.

Decided: May 6, 2004.
By the Board, David M. Konschnik, Director, Office of Proceedings.
Vernon A. Williams,
Secretary.

[FR Doc. 04-10774 Filed 5-12-04; 8:45 am]

BILLING CODE 4915-01-P